DEPARTMENT OF AGRICULTURE

National Institute of Food and Agriculture

Notice of Availability of Draft Scientific Assessment for Public Comment

AGENCY: National Institute of Food and Agriculture, USDA.

ACTION: Notice of availability of draft scientific assessment for public comment.

SUMMARY: The U.S. Department of Agriculture (USDA) National Institute of Food and Agriculture (NIFA) is publishing this notice on behalf of the Carbon Cycle Interagency Working Group (CCIWG)/U.S. Carbon Cycle Science Program and the United States Global Change Research Program (USGCRP) to announce the availability of a draft assessment, the 2nd State of the Carbon Cycle Science Report (SOCCR-2), for a 60-day public review. Collected comments will be carefully reviewed by the relevant chapter author teams. Following revision and further review, a revised draft will undergo final Federal interagency clearance.

DATES: Written comments on this notice must be received by 11:59 p.m. on January 8, 2018.

ADDRESSES: Once released, the draft USGCRP 2nd State of the Carbon Cycle Report can be accessed via the USGCRP Open Notices page (http://www.globalchange.gov/notices) or directly at the USGCRP Review and Comment System (https://review.globalchange.gov/). Registration details can be found on the review site home page, and review instructions can be found on a dedicated special report page where comments from the public will be accepted electronically. Comments may be submitted only via this online mechanism.

All comments received through this process will be considered by the relevant chapter authors without knowledge of the commenters' identities. When the final assessment is issued, the comments and the commenters' names, along with the authors' responses, will become part of the public record and made available on http://www.globalchange.gov. Information submitted by a commenter as part of the registration process (such as an email address) will not be disclosed publicly.

Instructions: Response to this notice is voluntary. Responses to this notice may be used by the government for program planning on a non-attribution basis. USDA therefore requests that no business proprietary information or copyrighted information be submitted in response to this notice. Please note that the U.S. Government will not pay for response preparation, or for the use of any information contained in the response.

FOR FURTHER INFORMATION CONTACT: U.S. Carbon Cycle Science Program/CCIWG/USGCRP Contact: Dr. Gyami Shrestha; email: gshrestha@usgcrp.gov.

SUPPLEMENTARY INFORMATION: Context: The U.S. Global Change Research Program (USGCRP) is mandated under the Global Change Research Act (GCRA) of 1990 to conduct a quadrennial National Climate Assessment (NCA). Under its current decadal strategic plan (http://go.usa.gov/3qGU4), USGCRP is building sustained assessment capacity. The sustained assessment supports the Nation's ability to understand, anticipate, and respond to risks and potential impacts brought about by global environmental change. As part of the ongoing NCA process, the 2nd State of the Carbon Cycle Report (SOCCR-2) is being developed to inform the assessment. The last (3rd) NCA (2014) (NCA3: http://nca2014.globalchange.gov) and the process to develop it provided a foundation for subsequent activities and reports. The SOCCR-2 assessment provides an update to the carbon cycle science information presented in the 2014 NCA and the 2007 State of the Carbon Cycle Report, a Scientific Assessment Product (SAP 2.2) that directly informed the 2nd NCA. The SOCCR-2 assessment provides updated carbon cycle science findings and projections, and is an important input to the authors of the next quadrennial NCA, expected in 2018.

The 2nd State of the Carbon Cycle Report (SOCCR-2) is a product of the U.S. Global Change Research Program (USGCRP), and is organized and led by an interagency team, the Carbon Cycle Interagency Working Group. The draft assessment was written by Federal and non-Federal authors identified via an Open Call for nominations (www.federalregister.gov/documents/2016/02/12/2016-02927/request-for-public-engagement-in-the-interagency-special-report-2nd-state-of-the-carbon-cycle-report). An interagency Federal Steering Committee selected authors based on their demonstrated subject matter expertise, relevant publications, and knowledge of specific topics designated in an outline included in the SOCCR-2 prospectus that can be found through a link on the SOCCR-2 (https://www.carboncyclescience.us/state-carbon-cycle-report-soccr. This assessment responds to the 1990 Congressional mandate to periodically produce National Climate Assessments and to assist the nation in understanding, assessing, predicting, and responding to global change. The report adheres to the Information Quality Act requirements (http://www.cio.noaa.gov/services_programs/info_quality.html) for quality, transparency, and accessibility as appropriate for a Highly Influential Scientific Assessment (HISA).

Done at Washington, DC, on November 3, 2017.
Sonny Ramaswamy,
Director, National Institute of Food and Agriculture.

[FR Doc. 2017-24347 Filed 11-7-17; 8:45 am]

BILLING CODE 3410-22-P